DEPARTMENT OF ENERGY

Federal Energy Regulatory Commission

[Docket No. CP20-481-000]

Rio Bravo Pipeline Company, LLC; Notice of Application To Amend

Take notice that on June 16, 2020, Rio Bravo Pipeline Company, LLC (Rio Bravo), 5400 Westheimer Court, Houston, Texas 77056-531, filed an application pursuant to section 7(c) of the Natural Gas Act (NGA) and, Part 157 of the Commission's regulations for authority to amend its order issued by the Commission on November 22, 2019, in Docket No. CP16-455-000.¹ Rio Bravo requests authorization to, among other things, modify individual units at Compressor Station 1; eliminate Compressor Stations 2, 3 and two interconnect booster stations; eliminate certain measurement facilities; change the maximum allowable operating pressure of the pipelines and header system, and increase the diameter of the first pipeline from 42 inches to 48 inches, resulting in an increase in the mainline design capacity on the first pipeline from 2.25 Bcf/d to 2.6 Bcf/d. Rio Bravo is not proposing a change to the Project's total certificated design capacity of 4.5 Bcf/d. Rio Bravo also proposes to revise its initial Project rates to reflect an increase in the overall estimated cost to construct the Project facilities; to implement a new electric power charge to reflect the addition of two electric-driven compressor units and to revise the initial fuel retainage percentage for Phase 1 and for the entire Project following in-service of Phase 2 all as more fully set forth in the application which is on file with the Commission and open to public inspection. The filing is available for review on the Commission's website web at http://www.ferc.gov using the “eLibrary” link. Enter the docket number excluding the last three digits in the docket number field to access the document. For assistance, contact FERC at FERCOnlineSupport@ferc.gov or call toll-free, (866) 208-3676 or TYY, (202) 502-8659. At this time, the Commission has suspended access to the Commission's Public Reference Room, due to the proclamation declaring a National Emergency concerning the Novel Coronavirus Disease (COVID-19), issued by the President on March 13, 2020.

¹ Rio Grande LNG, LLC and Rio Bravo Pipeline Company, LLC, 169 FERC ¶ 61,131 (2019).

Any questions concerning this application may be directed to Lisa A. Connolly Director, Rates & Certificates, Shelly Olmo Specialist I, Rates & Certificates Rio Bravo Pipeline Company, LLC P.O. Box 1642 Houston, Texas 77251-1642 Phone: (713) 627-4102 Fax: (713) 627-5947 and James D. Seegers, Damien R. Lyster, Vinson & Elkins L.L.P., 1001 Fannin, Suite 2500 Houston, Texas 77002 Phone: (713) 758-2939, Fax: (713) 615-5206 Email: jseegers@velaw.com, Email: dlyster@velaw.com.

Pursuant to section 157.9 of the Commission's rules (18 CFR 157.9), within 90 days of this Notice, the Commission staff will either: Complete its environmental assessment (EA) and place it into the Commission's public record (eLibrary) for this proceeding; or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify federal and state agencies of the timing for the completion of all necessary reviews, and the subsequent need to complete all federal authorizations within 90 days of the date of issuance of the Commission staff's FEIS or EA.

There are two ways to become involved in the Commission's review of this project. First, any person wishing to obtain legal status by becoming a party to the proceedings for this project should, on or before the comment date stated below file with the Federal Energy Regulatory Commission, 888 First Street NE, Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list and will be notified of any meetings associated with the Commission's environmental review process. Environmental commenters will not be required to serve copies of filed documents on all other parties. However, the non-party commenters will not receive copies of all documents filed by other parties or issued by the Commission and will not have the right to seek court review of the Commission's final order.

In addition to publishing the full text of this document in the Federal Register, the Commission provides all interested persons an opportunity to view and/or print the contents of this document via the internet through the Commission's Home Page (http://ferc.gov) using the “eLibrary” link. Enter the docket number excluding the last three digits in the docket number field to access the document. At this time, the Commission has suspended access to the Commission's Public Reference Room, due to the proclamation declaring a National Emergency concerning the Novel Coronavirus Disease (COVID-19), issued by the President on March 13, 2020. For assistance, contact the Federal Energy Regulatory Commission at FERCOnlineSupport@ferc.gov or call toll-free, (886) 208-3676 or TYY, (202) 502-8659.

The Commission strongly encourages electronic filings of comments, protests and interventions in lieu of paper using the “eFiling” link at http://www.ferc.gov. Persons unable to file electronically may mail similar pleadings to the Federal Energy Regulatory Commission, 888 First Street NE, Washington, DC 20426. Hand delivered submissions in docketed proceedings should be delivered to Health and Human Services, 12225 Wilkins Avenue, Rockville, Maryland 20852.

Comment Date: 5:00 p.m. Eastern Time on July 16, 2020.

Dated: June 25, 2020.
Kimberly D. Bose,
Secretary.

[FR Doc. 2020-14182 Filed 6-30-20; 8:45 am]

BILLING CODE 6717-01-P